DEPARTMENT OF TRANSPORTATION

Federal Aviation Administration

14 CFR Part 39

[Docket No. FAA-2023-1639; Project Identifier MCAI-2023-00109-T]

RIN 2120-AA64

Airworthiness Directives; MHI RJ Aviation ULC (Type Certificate Previously Held by Bombardier, Inc.) Airplanes

AGENCY: Federal Aviation Administration (FAA), DOT.

ACTION: Notice of proposed rulemaking (NPRM).

SUMMARY: The FAA proposes to adopt a new airworthiness directive (AD) for all MHI RJ Aviation ULC Model CL-600-2B19 (Regional Jet Series 100 & 440), CL-600-2C10 (Regional Jet Series 700, 701 & 702), CL-600-2C11 (Regional Jet Series 550), CL-600-2D15 (Regional Jet Series 705), CL-600-2D24 (Regional Jet Series 900), and CL-600-2E25 (Regional Jet Series 1000) airplanes. This proposed AD was prompted by reports of power control unit (PCU) rod end fractures due to pitting corrosion, and a determination that new or more restrictive airworthiness limitations are necessary. This proposed AD would, for certain airplanes, require revising the existing maintenance or inspection program, as applicable, to incorporate new or more restrictive airworthiness limitations. This proposed AD would also require accomplishing certain aircraft maintenance manual (AMM) tasks and corrective actions following short-term or long-term storage. The FAA is proposing this AD to address the unsafe condition on these products.

DATES: The FAA must receive comments on this proposed AD by September 11, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1639; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; website mhirj.com.

• You may view this service information at the FAA, Airworthiness Products Section, Operational Safety Branch, 2200 South 216th St., Des Moines, WA. For information on the availability of this material at the FAA, call 206-231-3195.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2023-1639; Project Identifier MCAI-2023-00109-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gabriel Kim, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

Transport Canada, which is the aviation authority for Canada, has issued Transport Canada AD CF-2023-03, dated January 20, 2023 (Transport Canada AD CF-2023-03) (also referred to as the MCAI), to correct an unsafe condition for all MHI RJ Aviation ULC Model CL-600-2B19 (Regional Jet Series 100 & 440), CL-600-2C10 (Regional Jet Series 700, 701 & 702), CL-600-2C11 (Regional Jet Series 550), CL-600-2D15 (Regional Jet Series 705), CL-600-2D24 (Regional Jet Series 900), and CL-600-2E25 (Regional Jet Series 1000) airplanes. The MCAI states that in-service reports of PCU rod end fractures due to pitting corrosion led to the issuance of Transport Canada AD CF-2018-29, dated November 2, 2018 (which corresponds to FAA AD 2019-19-08, Amendment 39-19744 (84 FR 60902, November 12, 2019) (AD 2019-19-08). AD 2019-19-08 requires detailed inspections of the elevator PCU rod ends and applicable corrective actions, and prohibits using certain aircraft maintenance manual tasks. Pitting corrosion can cause the PCU end rod spherical bearing to seize, potentially inducing a bending moment on the PCU output rod. The bending moment will eventually fracture the rod end. This condition, if not corrected, could lead to a disconnect between the PCU and the elevator or rudder control surface, resulting in potential loss of the control surface function or inadequate flutter suppression. Since Transport Canada AD CF-2018-29 was issued, MHI RJ conducted further safety analyses and determined that new or more restrictive airworthiness limitations are necessary for the operational check of each individual rudder PCU and elevator PCU. Additionally, Transport Canada determined that certain return-to-service AMM tasks are needed following short-term or long-term airplane storage.

The FAA is proposing this AD to address the unsafe condition on these products. You may examine the MCAI in the AD docket at regulations.gov under Docket No. FAA-2023-1639.

Related Service Information Under 1 CFR Part 51

The FAA reviewed MHI RJ Temporary Revisions ALI-0757 and ALI-0759, both dated September 24, 2021. This service information specifies new or more restrictive airworthiness limitations for the elevator and rudder PCUs.

The FAA also reviewed the following service information. This service information specifies, among other tasks, operational tests of the rudder control and elevator control systems, and detailed inspections of the rudder PCU rod end spherical ball and elevator PCU rod end spherical ball, and corrective actions. Corrective actions include making sure that the applicable parts are moving or rotating correctly. These documents are distinct since they apply to different airplane models in different configurations.

• Subject 27-23-01, Power Control Unit (PCU)—Rudder, Chapter 27—Flight Controls, MHI RJ CRJ700/900/1000 Aircraft Maintenance Manual, Part 2, CSP B-001, Revision 71, dated December 16, 2022.

• Subject 27-33-01, Power Control Unit (PCU)—Elevator, Chapter 27, Flight Controls, MHI RJ CRJ700/900/1000 Aircraft Maintenance Manual, Part 2, CSP B-001, Revision 71, dated December 16, 2022.

• Task 27-21-00-710-805, Operational Test of the Rudder Control System, Subject 27-21-00, Rudder Control System, Chapter 27, Flight Controls, of MHI RJ CRJ200 Aircraft Maintenance Manual, CSP A-001, Revision 66, dated October 10, 2022.

• Task 27-23-01-220-801, Detailed Inspection of the Rudder PCU Rod End Spherical Ball, Subject 27-23-01, Power Control Unit (PCU), Rudder, Chapter 27, Flight Controls, of MHI RJ CRJ200 Aircraft Maintenance Manual, CSP A-001, Revision 66, dated October 10, 2022.

• Task 27-31-00-710-803, Operational Test of the Elevator Control System, Subject 27-31-00, Elevator Control System, Chapter 27, Flight Controls, of MHI RJ CRJ200 Aircraft Maintenance Manual, CSP A-001, Revision 66, dated October 10, 2022.

• Task 27-33-01-220-801, Detailed Inspection of the Elevator PCU Rod End Spherical Ball, Subject 27-33-01, Power Control Unit (PCU), Elevator, Chapter 27, Flight Controls, of MHI RJ CRJ200 Aircraft Maintenance Manual, CSP A-001, Revision 66, dated October 10, 2022.

This service information is reasonably available because the interested parties have access to it through their normal course of business or by the means identified in ADDRESSES.

FAA's Determination

This product has been approved by the aviation authority of another country, and is approved for operation in the United States. Pursuant to the FAA's bilateral agreement with this State of Design Authority, the FAA has been notified of the unsafe condition described in the MCAI and service information referenced above. The FAA is proposing this AD because the FAA evaluated all the relevant information and determined the unsafe condition described previously is likely to exist or develop on other products of the same type design.

Proposed Requirements of This NPRM

This proposed AD would require revising the existing maintenance or inspection program, as applicable, to incorporate new or more restrictive airworthiness limitations. This proposed AD would also require accomplishing certain AMM tasks and corrective actions following short-term or long-term storage.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (j)(1) of this proposed AD.

Costs of Compliance

The FAA estimates that this AD, if adopted as proposed, would affect 1,125 airplanes of U.S. registry. The FAA estimates the following costs to comply with this proposed AD:

Estimated Costs for Required Actions
Labor cost | Parts cost | Cost per product | Cost on U.S. operators
Up to 8 work-hours × $85 per hour = $680 | $0 | Up to $680 | Up to $765,000.

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

MHI RJ Aviation ULC (Type Certificate Previously Held by Bombardier, Inc.): Docket No. FAA-2023-1639; Project Identifier MCAI-2023-00109-T.

(a) Comments Due Date

The FAA must receive comments on this airworthiness directive (AD) by September 11, 2023.

(b) Affected ADs

None.

(c) Applicability

This AD applies to all MHI RJ Aviation ULC (Type Certificate previously held by Bombardier, Inc.) airplanes identified in paragraphs (c)(1) through (6) of this AD, certificated in any category.

(1) Model CL-600-2B19 (Regional Jet Series 100 & 440) airplanes.

(2) Model CL-600-2C10 (Regional Jet Series 700, 701, & 702) airplanes.

(3) Model CL-600-2C11 (Regional Jet Series 550) airplanes.

(4) Model CL-600-2D15 (Regional Jet Series 705) airplanes.

(5) Model CL-600-2D24 (Regional Jet Series 900) airplanes.

(6) Model CL-600-2E25 (Regional Jet Series 1000) airplanes.

(d) Subject

Air Transport Association (ATA) of America Code 27, Flight controls.

(e) Reason

This AD was prompted by reports of power control unit (PCU) rod end fractures due to pitting corrosion and a determination that new or more restrictive airworthiness limitations are necessary. The FAA is issuing this AD to address fractured PCU rod ends. This condition, if not addressed, could lead to a disconnect between the PCU and the elevator or rudder control surface, resulting in potential loss of the control surface function or inadequate flutter suppression.

(f) Compliance

Comply with this AD within the compliance times specified, unless already done.

(g) Required Actions for Model CL-600-2B19 Airplanes

For Model CL-600-2B19 (Regional Jet Series 100 & 440) airplanes: Within 60 days after the effective date of this AD, when returning an airplane from long-term storage (storage lasting more than 28 days), do the actions specified in paragraphs (g)(1) through (4) of this AD. Do all applicable corrective actions before further flight.

(1) Accomplish an operational test and applicable corrective actions, in accordance with Task 27-21-00-710-805, Operational Test of the Rudder Control System, Subject 27-21-00, Rudder Control System, Chapter 27, Flight Controls, of MHI RJ CRJ200 Aircraft Maintenance Manual, CSP A-001, Revision 66, dated October 10, 2022.

(2) Accomplish an operational test and applicable corrective actions, in accordance with Task 27-31-00-710-803, Operational Test of the Elevator Control System, Subject 27-31-00, Elevator Control System, Chapter 27, Flight Controls, of MHI RJ CRJ200 Aircraft Maintenance Manual, CSP A-001, Revision 66, dated October 10, 2022.

(3) Accomplish a detailed inspection and applicable corrective actions, in accordance with Task 27-23-01-220-801, Detailed Inspection of the Rudder PCU Rod End Spherical Ball, Subject 27-23-01, Power Control Unit (PCU), Rudder, Chapter 27, Flight Controls, of MHI RJ CRJ200 Aircraft Maintenance Manual, CSP A-001, Revision 66, dated October 10, 2022.

(4) Accomplish a detailed inspection and applicable corrective actions in accordance with Task 27-33-01-220-801, Detailed Inspection of the Elevator PCU Rod End Spherical Ball, Subject 27-33-01, Power Control Unit (PCU), Elevator, Chapter 27, Flight Controls, of MHI RJ CRJ200 Aircraft Maintenance Manual, CSP A-001, Revision 66, dated October 10, 2022.

(h) Required Actions for Model CL-600-2C10, CL-600-2C11, CL-600-2D15 and CL-600-2D24 Airplanes

For Model CL-600-2C10 (Regional Jet Series 700, 701, & 702); CL-600-2C11 (Regional Jet Series 550); CL-600-2D15 (Regional Jet Series 705); and CL-600-2D24 (Regional Jet Series 900) airplanes: Accomplish the actions required by paragraphs (h)(1) through (3) of this AD, as applicable.

(1) Within 60 days after the effective date of this AD, revise the existing maintenance or inspection program, as applicable, to incorporate the information specified in MHI RJ Temporary Revisions ALI-0757 and ALI-0759, both dated September 24, 2021. The initial compliance time for doing the tasks is within 400 flight hours or 6 months, whichever occurs first after the effective date of this AD; or within 60 days after the effective date of this AD; whichever occurs latest.

(2) Within 60 days after the effective date of this AD, when returning an airplane from short-term storage (storage lasting 28 days or less), do the actions specified in paragraphs (h)(2)(i) and (ii) of this AD. Do all applicable corrective actions before further flight.

(i) Accomplish an operational test and applicable corrective actions, in accordance with Task 27-23-01-710-801, Operational Test of the Rudder PCU, Subject 27-23-01, Power Control Unit (PCU), Rudder, Chapter 27, Flight Controls, of MHI RJ CRJ700/900/1000 Aircraft Maintenance Manual, Part 2, CSP B-001, Revision 71, dated December 16, 2022.

(ii) Accomplish an operational test and applicable corrective actions in accordance with Task 27-33-01-710-802, Operational Test of the Elevator Power-Control Units (PCUs), Subject 27-33-01, Power Control Unit (PCU), Elevator, Chapter 27, Flight Controls, of MHI RJ CRJ700/900/1000 Aircraft Maintenance Manual, Part 2, CSP B-001, Revision 71, dated December 16, 2022.

(3) Within 60 days after the effective date of this AD, when returning an airplane from long-term storage (storage lasting more than 28 days), do the actions specified in paragraphs (h)(3)(i) through (iv) of this AD. Do all applicable corrective actions before further flight.

(i) Accomplish an operational test and applicable corrective actions, in accordance with Task 27-23-01-710-801, Operational Test of the Rudder PCU, Subject 27-23-01, Power Control Unit (PCU), Rudder, Chapter 27, Flight Controls, of MHI RJ CRJ700/900/1000 Aircraft Maintenance Manual, Part 2, CSP B-001, Revision 71, dated December 16, 2022.

(ii) Accomplish an operational test and applicable corrective actions in accordance with Task 27-33-01-710-802, Operational Test of the Elevator Power-Control Units (PCUs), Subject 27-33-01, Power Control Unit (PCU), Elevator, Chapter 27, Flight Controls, of MHI RJ CRJ700/900/1000 Aircraft Maintenance Manual, Part 2, CSP B-001, Revision 71, dated December 16, 2022.

(iii) Accomplish a detailed inspection and applicable corrective actions in accordance with Task 27-23-01-220-802, Detailed Inspection of the Rudder PCU Rod End Spherical Ball, Subject 27-23-01, Power Control Unit (PCU), Rudder, Chapter 27, Flight Controls, of MHI RJ CRJ700/900/1000 Aircraft Maintenance Manual, Part 2, CSP B-001, Revision 71, dated December 16, 2022.

(iv) Accomplish a detailed inspection and applicable corrective actions, in accordance with Task 27-33-01-220-801, Detailed Inspection of the Elevator PCU Rod End Spherical Ball, Subject 27-33-01, Power Control Unit (PCU), Elevator, Chapter 27, Flight Controls, of MHI RJ CRJ700/900/1000 Aircraft Maintenance Manual, Part 2, CSP B-001, Revision 71, dated December 16, 2022.

(i) Required Actions for Model CL-600-2E25 Airplanes

For Model CL-600-2E25 (Regional Jet Series 1000) airplanes: Accomplish the actions specified in paragraphs (i)(1) through (3) of this AD, as applicable.

(1) Within 60 days after the effective date of this AD, revise the existing maintenance or inspection program, as applicable, to incorporate the information specified in MHI RJ Temporary Revisions ALI-0757 and ALI-0759, both dated September 24, 2021. The initial compliance time for doing the tasks is within 400 flight hours or 6 months, whichever occurs first after the effective date of this AD; or within 60 days after the effective date of this AD; whichever occurs latest.

(2) Within 60 days after the effective date of this AD, when returning an airplane from short-term storage (storage lasting 28 days or less): Accomplish an operational test and applicable corrective actions in accordance with Task 27-33-01-710-802, Operational Test of the Elevator Power-Control Units (PCUs), Subject 27-33-01, Power Control Unit (PCU), Elevator, Chapter 27, Flight Controls, of MHI RJ CRJ700/900/1000 Aircraft Maintenance Manual, Part 2, CSP B-001, Revision 71, dated December 16, 2022. Do all applicable corrective actions before further flight.

(3) Within 60 days after the effective date of this AD, when returning an airplane from long-term storage (storage lasting more than 28 days), do the actions specified in paragraphs (i)(3)(i) and (ii) of this AD. Do all applicable corrective actions before further flight.

(i) Accomplish an operational test and applicable corrective actions, in accordance with Task 27-33-01-710-802, Operational Test of the Elevator Power-Control Units (PCUs), Subject 27-33-01, Power Control Unit (PCU), Elevator, Chapter 27, Flight Controls, of MHI RJ CRJ700/900/1000 Aircraft Maintenance Manual, Part 2, CSP B-001, Revision 71, dated December 16, 2022.

(ii) Accomplish a detailed inspection and applicable corrective actions, in accordance with Task 27-33-01-220-801, Detailed Inspection of the Elevator PCU Rod End Spherical Ball, Subject 27-33-01, Power Control Unit (PCU), Elevator, Chapter 27, Flight Controls, of MHI RJ CRJ700/900/1000 Aircraft Maintenance Manual, Part 2, CSP B-001, Revision 71, dated December 16, 2022.

(j) No Alternative Actions or Intervals

After the existing maintenance or inspection program has been revised as required by paragraphs (h)(1) and (i)(1) of this AD, no alternative actions (e.g., inspections), or intervals may be used unless the actions, and intervals are approved as an alternative method of compliance (AMOC) in accordance with the procedures specified in paragraph (j)(1) of this AD.

(j) Other FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager, International Validation Branch, mail it to the address identified in paragraph (j)(2) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or MHI RJ Aviation ULC's Transport Canada Design Approval Organization (DAO). If approved by the DAO, the approval must include the DAO-authorized signature.

(k) Additional Information

(1) Refer to Transport Canada AD CF-2023-03, dated January 20, 2023, for related information. This Transport Canada AD may be found in the AD docket at regulations.gov under Docket No. FAA-2023-1639.

(2) For more information about this AD, contact Gabriel Kim, Aviation Safety Engineer, FAA, 1600 Stewart Avenue, Suite 410, Westbury, NY 11590; telephone 516-228-7300; email 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) MHI RJ Temporary Revision ALI-0757, dated September 24, 2021.

(ii) MHI RJ Temporary Revision ALI-0759, dated September 24, 2021.

(iii) Subject 27-23-01, Power Control Unit (PCU)—Rudder, Chapter 27—Flight Controls, MHI RJ CRJ700/900/1000 Aircraft Maintenance Manual, Part 2, CSP B-001, Revision 71, dated December 16, 2022.

(iv) Subject 27-33-01, Power Control Unit (PCU)—Elevator, Chapter 27, Flight Controls, MHI RJ CRJ700/900/1000 Aircraft Maintenance Manual, Part 2, CSP B-001, Revision 71, dated December 16, 2022.

(v) Task 27-21-00-710-805, Operational Test of the Rudder Control System, Subject 27-21-00, Rudder Control System, Chapter 27, Flight Controls, of MHI RJ CRJ200 Aircraft Maintenance Manual, CSP A-001, Revision 66, dated October 10, 2022.

(vi) Task 27-23-01-220-801, Detailed Inspection of the Rudder PCU Rod End Spherical Ball, Subject 27-23-01, Power Control Unit (PCU), Rudder, Chapter 27, Flight Controls, of MHI RJ CRJ200 Aircraft Maintenance Manual, CSP A-001, Revision 66, dated October 10, 2022.

(vii) Task 27-31-00-710-803, Operational Test of the Elevator Control System, Subject 27-31-00, Elevator Control System, Chapter 27 Flight Controls, of MHI RJ CRJ200 Aircraft Maintenance Manual, CSP A-001, Revision 66, dated October 10, 2022.

(viii) Task 27-33-01-220-801, Detailed Inspection of the Elevator PCU Rod End Spherical Ball, Subject 27-33-01, Power Control Unit (PCU), Elevator, Chapter 27, Flight Controls, of MHI RJ CRJ200 Aircraft Maintenance Manual, CSP A-001, Revision 66, dated October 10, 2022.

(3) For service information identified in this AD, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; website mhirj.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on July 21, 2023.
Victor Wicklund,
Deputy Director, Compliance & Airworthiness Division, Aircraft Certification Service.

[FR Doc. 2023-15986 Filed 7-27-23; 8:45 am]

BILLING CODE 4910-13-P